DEPARTMENT OF AGRICULTURE

Food Safety and Inspection Service

9 CFR Parts 317, 381, and 442

[Docket No. 04-041C; FDMS Docket Number FSIS-2005-0032]

RIN 0583-AD17

Determining Net Weight Compliance for Meat and Poultry Products

AGENCY: Food Safety and Inspection Service, USDA.

ACTION: Proposed rule; correction.

SUMMARY: This document corrects the preamble and regulatory text to a proposed rule published in the Federal Register of March 28, 2006, concerning net weight compliance for meat and poultry products. These corrections reference the revised version of the National Institute of Standards and Technology (NIST) Handbook 133, dated January 2005. The March 28, 2006, proposed rule incorrectly referenced the NIST Handbook 133, dated January 2002. The standards in the January 2005 NIST Handbook 133 that are being proposed to be incorporated by reference in FSIS' meat and poultry inspection regulations remain substantively unchanged from those currently incorporated by reference in FSIS' regulations and are no different than the standards in the January 2002 version.

FOR FURTHER INFORMATION CONTACT: Robert C. Post, PhD, Director, Labeling and Consumer Protection Staff, Office of Policy, Program, and Employee Development, FSIS, by telephone at (202) 205-0279 or by fax at (202) 205-3625.

Correction

In the proposed rule, entitled, “Determining Net Weight Compliance for Meat and Poultry Products,” (FSIS Docket No. 04-041P; FDMS Docket Number FSIS-2005-0032), beginning on page 15340 in the March 28, 2006, Federal Register make the following corrections. In the SUPPLEMENTARY INFORMATION section, on page 15340, in the 3rd column, correct the sentence beginning “In January 2002,” to read “In January 2005 * * *” On page 15342, in the 1st column, in § 442.2(a), correct “January 2002” to read “January 2005.”

Additional Public Notification

Public awareness of all segments of rulemaking and policy development is important. Consequently, in an effort to ensure that the public and in particular minorities, women, and persons with disabilities, are aware of this correction, FSIS will announce it online through the FSIS Web page located at http://www.fsis.usda.gov/regulations_&_policies/2006_Proposed_Rules_Index/index.asp.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov/.

FSIS also will make copies of this Federal Register publication available through the FSIS Constituent Update, which is used to provide information regarding FSIS policies, procedures, regulations, Federal Register notices, public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an email subscription service which provides an automatic and customized notification when popular pages are updated, including Federal Register publications and related documents. This service is available at http://www.fsis.usda.gov/news_and_events/email_subscription/ and allows FSIS customers to sign up for subscription options across eight categories. Options range from recalls to export information to regulations, directives and notices. Customers can add or delete subscriptions themselves and have the option to password protect their account.

Done in Washington, DC, on April 14, 2006.
Barbara J. Masters,
Administrator.

[FR Doc. E6-5866 Filed 4-18-06; 8:45 am]

BILLING CODE 3410-DM-P